COMMITTEE FOR THE IMPLEMENTATION OF TEXTILE AGREEMENTS

Entry of Shipments of Cotton, Wool, Man-Made Fiber, Silk Blend and Other Vegetable Fiber Textiles and Apparel in Excess of U.S. - China Bilateral Textile Agreement Limits for 2008.

June 11, 2008.

AGENCY: The Committee for the Implementation of Textile Agreements (the Committee).

ACTION: Notice.

FOR FURTHER INFORMATION CONTACT: Ross Arnold, International Trade Specialist, Office of Textiles and Apparel, U.S. Department of Commerce, (202) 482-4212.

SUPPLEMENTARY INFORMATION:

Authority: Executive Order 11651 of March 3, 1972, as amended; Section 204 of the Agricultural Act of 1956, as amended (7 U.S.C. 1854).

This notice serves to remind interested parties that charges against the limits subject to the U.S. - China Bilateral Textile Agreement signed on November 8, 2005 (the Agreement) are by date of export and not date of entry. A properly completed electronic visa (ELVIS) transmission will be required for all shipments exported prior to January 1, 2009 that are subject to Agreement limits, regardless of the date of entry into the United States. Shipments exported in 2008 in excess of agreed limits are in violation of the terms of the Agreement. Shipments exported from China on and after January 1, 2009 will not require an ELVIS transmission.

The purpose of this notice is to advise the public that CITA reserves the right to permanently deny entry to or to stage entry to goods that have been shipped in excess of the 2008 limits under the Agreement. Overshipments of merchandise subject to the Agreement shall be subject to delayed and staged entry, in a manner similar to the procedures followed for overshipments of 2005 China textile safeguard limits, as published in the Federal Register Notice on December 5, 2005 (70 FR 72427). Any overshipments of the 2008 limits of the Agreement shall be subject to the following procedures:

1. Entry will not be allowed until one month after the expiration date of the agreement limit. Therefore entry will not be allowed until February 1, 2009.

2. At that time, only 5 percent of the 2008 base limit will be allowed entry for a one month period beginning on that date.

3. An additional 5 percent will be allowed entry monthly until all overshipments are allowed entry.

CITA will publish a notice and directive to U.S. Customs and Border Protection (CBP) later this year indicating the categories involved in staged entry and the 5 percent quantities to be allowed in monthly beginning February 1, 2009.

R. Matthew Priest,
Chairman, Committee for the Implementation of Textile Agreements.

[FR Doc. E8-13482 Filed 6-13-08; 8:45 am]

BILLING CODE 3510-DS-S